DEPARTMENT OF ENERGY

[Docket No. RP01-135-000]

Texas Gas Transmission Corporation; Notice of Proposed Changes in FERC Gas Tariff

December 5, 2000.

Take notice that on November 30, 2000, Texas Gas Transmission Corporation (Texas Gas) tendered for filing as part of its FERC Gas Tariff, First Revised Volume No. 1, the revised tariff sheets listed on Appendix A to the filing, with an effective date of January 1, 2001.

Texas Gas states that this filing is made to implement the provisison of Article XI, Section 1(a), of the Offer of Settlement and Explanatory Statement in Docket No. RP97-344, et al., and, as presented in the referenced Appendix D, page 2, of said Settlement, Texas Gas, in the instant filing, proposes to reflect the unit rate reductions, effective January 1, 2001, resulting from the termination of the HIOS T-17 contract. The attached tariff sheets reflect reductions to: NNS and FT demand rates of ($0.0006); SGT rates of ($0.0012); average STF and IT peak demand rates of ($0.0010); average STF and IT off-peak demand rates of ($0.0003); SNS 1/16 hourly flow demand rates of ($0.0006); SNS 1/16 up to 1/12 hourly flow demand rates of ($0.0008); and SNS greater than 1/12 hourly flow demand rates of ($0.0012).

Texas Gas states that copies of this filing have been served upon all of Texas Gas's jurisdictional customers, all parties on the Commission's official service list in this proceeding, interested state commissions, and the FERC Staff.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(ii) and the instructions on the Commission's web site at http://www.ferc.fed.us/efi/doorbell.htm.

David P. Boergers,
Secretary.

[FR Doc. 00-31414 Filed 12-8-00; 8:45 am]

BILLING CODE 6717-01-M